DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Foreign Fishing Reporting Requirements.

Form Number(s): None.

OMB Approval Number: 0648-0075.

Type of Request: Regular submission.

Burden Hours: 88.

Number of Respondents: 6.

Average Hours per Response: Weekly reports, 6 minutes; logbook reporting, 30 minutes for fishing vessels; and 8 minutes for transport vessels.

Needs and Uses: Foreign fishing activities are authorized under the Magnuson-Stevens Fishery Conservation and Management Act (16 U.S.C. 1801 et seq.). The collection of information from permitted vessels is necessary to monitor vessel activities and location for enforcement purposes. The reports are also necessary for fishery management purposes, monitoring the amounts of fish, if any, and permitted vessels harvest or receive from U.S. vessels in joint venture operations.

Affected Public: Business or other for-profit organizations.

Frequency: Weekly and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: October 3, 2007.
Gwellnar Banks,
Management Analyst, Office of the Chief Information Officer.

[FR Doc. E7-19860 Filed 10-9-07; 8:45 am]

BILLING CODE 3510-22-P